DEPARTMENT OF STATE

[Public Notice: 11866]

Notice of Shipping Coordinating Committee Meeting in Preparation for International Maritime Organization MEPC 79 Meeting

The Department of State will conduct a public meeting of the Shipping Coordinating Committee at 10:00 a.m. on Wednesday, December 7, 2022, by way of both in-person at Coast Guard Headquarters in Washington, DC and teleconference. The primary purpose of the meeting is to prepare for the seventy ninth session of the International Maritime Organization's (IMO) Marine Environment Protection Committee (MEPC 79) to be held at IMO Headquarters from Monday, December 12, 2022 to Friday December 16, 2022.

Members of the public may participate in-person or up to the capacity of the teleconference phone line, which can handle 500 participants. To RSVP, participants should contact the meeting coordinator, LCDR Jessica Anderson, by email at jessica.p.anderson@uscg.mil. The meeting location will be the United States Coast Guard Headquarters, Ray Evans Conference Room, 6I10-01-B/C and the teleconference line will be provided to those who RSVP.

The agenda items to be considered by the advisory committee at this meeting mirror those to be considered at MEPC 79, and include:

— Adoption of the agenda

—Decisions of other IMO bodies

—Consideration and adoption of amendments to mandatory instruments

—Harmful aquatic organisms in ballast water

—Air pollution prevention

—Energy efficiency of ships

—Reduction of GHG emissions from ships

—Follow-up work emanating from the Action Plan to address marine plastic litter from ships

—Reports of other sub-committees

—Identification and protection of Special Areas, ECAs and PSSAs

—Application of the Committee's method of work

—Work programme of the Committee and subsidiary bodies

—Election of the Chair and Vice-Chair

—Any other business

—Consideration of the report of the Committee

Please note: the IMO may, on short notice, adjust the MEPC 79 agenda to accommodate the constraints associated with the virtual meeting format. Any changes to the agenda will be reported to those who RSVP.

Those who plan to participate may contact the meeting coordinator, LCDR Jessica Anderson, by email at Jessica.P.Anderson@uscg.mil, or in writing at 2703 Martin Luther King Jr. Ave. SE, Stop 7509, Washington, DC 20593-7509. Members of the public needing reasonable accommodation should advise LCDR Jessica Anderson not later than November 30, 2022. Requests made after that date will be considered, but might not be possible to fulfill.

Additional information regarding this and other IMO public meetings may be found at: https://www.dco.uscg.mil/IMO.

(Authority: 22 U.S.C. 2656 and 5 U.S.C. 552)

Gregory J. O'Brien,
Senior Oceans Policy Advisor, Office of Ocean and Polar Affairs, Department of State.

[FR Doc. 2022-20645 Filed 9-22-22; 8:45 am]

BILLING CODE 4710-09-P